FEDERAL MARITIME COMMISSION

Ocean Transportation Intermediary License Rescission of Order of Revocation

Notice is hereby given that the Orders revoking the following licenses are being rescinded by the Federal Maritime Commission pursuant to sections 14 and 19 of the Shipping Act of 1984 (46 U.S.C. app. 1718) and the regulations of the Commission pertaining to the licensing of Ocean Transportation Intermediaries, 46 CFR Part 515.

License No. | Name/address
016071N | Heron International, Inc., 1149 Ellsworth Drive, Pasadena, TX 77506
017940F | Kristen Brandimarte dba Emmeli Shipping, 3200 Sunset Avenue, Suite 209, Ocean, NJ 07712
016027F | Lion Exhibition Freight, Inc., 1153 Willingham Drive, Atlanta, GA 30349

Sandra L. Kusumoto,
Director, Bureau of Certification and Licensing.

[FR Doc. 04-26989 Filed 12-7-04; 8:45 am]

BILLING CODE 6730-01-P